DEPARTMENT OF COMMERCE

National Oceanic and Atmospheric Administration

[I.D. 051606C]

Notice of Availability of Records of Decision for the Final Programmatic Environmental Impact Statement for the Montrose Settlements Restoration Program

AGENCIES: National Marine Fisheries Service (NMFS), National Oceanic and Atmospheric Administration (NOAA),Commerce; U.S. Fish and Wildlife Service (USFWS), Interior; National Parks Service (NPS), Interior.

ACTION: Notice of Availability of the three Records of Decision for the Programmatic Environmental Impact Statement for the Montrose Settlements Restoration Program Natural Resource Restoration Plan.

SUMMARY: The NOAA, USFWS, and NPS collectively announce the availability of their Records of Decision (RODs) for the Programmatic Environmental Impact Statement (EIS) for the Montrose Settlements Restoration Program Natural Resource Restoration Plan. NOAA, USFWS, and NPS are members of the natural resource trustee council planning and implementing natural resource restoration under the terms of the final settlement of litigation against the Montrose Chemical Corporation and other defendants. NOAA is the lead Federal agency, and USFWS and NPS are cooperating Federal agencies. The final EIS was released to the public for 30 days after the publication of a Notice of Availability in the Federal Register on November 11, 2005. The ROD documents the selection of Alternative 2 (the preferred alternative) in the final EIS.

ADDRESSES: Copies of the RODs may be obtained by written request to Trina Heard, NOAA GCNR, 501 West Ocean Blvd. Suite 4470, Long Beach, CA 90802; by email request to Trina.Heard@noaa.gov; or by calling Trina Heard at (562) 980-4070. The documents are also available on the Montrose Settlements Restoration Program web site at www.montroserestoration.gov.

FOR FURTHER INFORMATION CONTACT: Greg Baker, Program Manager, Montrose Settlements Restoration Program, 345 Middlefield Road, MS-999, Menlo Park, CA 94025, or Greg.Baker@noaa.gov, (650) 329-5048.

SUPPLEMENTARY INFORMATION: The following is a summary of the RODs. NOAA, USFWS, and NPS selected final Restoration Plan EIS Alternative 2. Alternative 2 describes a first phase, $25 million course of action to restore natural resources injured by past releases of DDT (dichlorodiphenyltrichloroethane) and PCBs (polychlorinated biphenyls) into Southern California coastal waters. The selected actions restore fishing and fish habitat, seabirds, bald eagles, and peregrine falcons over a broad geographic area within the Southern California Bight. The restoration actions are:

• Construct artificial reefs and fishing access improvements;

• Provide public information to restore lost fishing services;

• Restore full tidal exchange wetlands;

• Augment funds for implementing Marine Protected Areas in California;

• Complete the NCI Bald Eagle Feasibility Study before deciding on further restoration actions;

• Monitor the recovery of peregrine falcons on the Channel Islands;

• Restore seabirds to San Miguel Island;

• Restore alcids to Santa Barbara Island;

• Restore seabirds to San Nicolas Island;

• Restore seabirds to Scorpion and Orizaba Rocks; and

• Restore seabirds to Baja California Pacific Islands.

The NOAA, USFWS, and NPS reached their decision after taking into account the evaluation factors listed in the Restoration Plan EIS and in 43 CFR Part 11.82, the requirements of the National Environmental Policy Act and its implementing regulations, and other applicable laws and regulations listed in Section 8 of the final EIS. The final selected program (Alternative 2) includes minor modifications based on public comments. As documented in the FEIS, this alternative was deemed to be the environmentally preferred course of action.

Dated: May 24, 2006.
William T. Hogarth,
Assistant Administrator for Fisheries, National Marine Fisheries Service.

[FR Doc. E6-8265 Filed 5-26-06; 8:45 am]

BILLING CODE 3510-22-S